DEPARTMENT OF ENERGY

Federal Energy Regulatory Commission

[Docket No. CP07-178-000]

MIGC, Inc.; Notice of Request Under Blanket Authorization

April 26, 2007.

Take notice that on April 20, 2007, MIGC, Inc. (MIGC), 1099 18th Street, Suite 1200, Denver, Colorado 80202, filed in Docket No. CP07-178-000, an application pursuant to sections 157.205, 157.208, and 157.210 of the Commission's regulations under the Natural Gas Act (NGA) as amended, to construct and operate a new compressor station in Converse County, Wyoming, under MIGC's blanket certificate issued in Docket No. CP82-409-000, all as more fully set forth in the application which is on file with the Commission and open to the public for inspection.

MIGC proposes to construct the Python compressor station which will consist of one modular CAT 3608 driver with an Ariel JGD-4 single stage 2370 horsepower (HP) compressor unit and appurtenant facilities. The proposed Python compressor station would provide MIGC's customers with access to additional natural gas supplies in the Powder River basin. Anadarko Energy Services, Inc. (AESC), a wholly-owned subsidiary of Anadarko Petroleum Corporation (APC), has requested MIGC to expand its mainline system capacity to handle additional natural gas volumes. MIGC states that its mainline system is currently capable of transporting 130,000 Mcf per day (Mcf/d) on a sustainable peak day firm basis to the southern end of its system. MIGC also states that by adding compression on the southern portion of its mainline, it can accommodate up to an additional 45,000 Mcf/d of natural gas on a sustainable firm basis for southern deliveries in order to bring this additional production to market. MIGC estimates that it would cost $3,862,400 to construct the proposed Python compressor station. MIGC would finance the proposed construction with available funds and/or short-term borrowings.

Any questions concerning this application may be directed to Nancy Garfield, Senior Commercial Development Representative, MIGC, Inc., 1099 18th Street, Suite 1200, Denver, Colorado, or telephone 303-252-6186.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E7-8412 Filed 5-2-07; 8:45 am]

BILLING CODE 6717-01-P